DEPARTMENT OF THE INTERIOR

Bureau of Indian Affairs

Indian Gaming

AGENCY: Bureau of Indian Affairs, Interior.

ACTION: Notice of Approved Off-Track Wagering Compact.

SUMMARY: This notice publishes an approved Off-Track Wagering Compact between the Chickasaw Nation and the State of Oklahoma. Under the Indian Gaming Regulatory Act of 1988, the Secretary of the Interior is required to publish notice in the Federal Register of approved Tribal-State compacts for the purpose of engaging in Class III gaming activities on Indian lands.

EFFECTIVE DATE: June 22, 2004.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA) Public Law 100-497, 25 U.S.C. 2710, the Secretary of the Interior shall publish in the Federal Register notice of approved Tribal-State compacts for the purpose of engaging Class III gaming activities on Indian lands.

The Assistant Secretary—Indian Affairs, Department of the Interior, through his delegated authority, is publishing notice that the Off-Track Wagering Compact between the Chickasaw Nation and the State of Oklahoma has been approved and is now in effect.

Dated: March 24, 2004.
David W. Anderson,
Assistant Secretary—Indian Affairs.

[FR Doc. 04-14125 Filed 6-21-04; 8:45 am]

BILLING CODE 4310-4N-P